DEPARTMENT OF JUSTICE

Notice of Lodging of Consent Decree Pursuant to the Comprehensive Environmental Response, Compensation and Liability Act

In accordance with the policy of the Department of Justice, notice is hereby given that a proposed consent decree in The United States of America v. The Atlantic Richfield Company, the Atlantic Richfield Company v. The United States of America Civ. Nos. 1:99-CV-1743 and 5:98-CV-2645, was lodged with the United States District Court for the Northern District of Oh8io, on May 4, 2001. The United States brought an action against Defendant, the Atlantic Richfield Company (“ARCO”) pursuant to Section 107 of the Comprehensive Environmental Response, Compensation and Liability Act (CERCLA) for, inter alia, reimbursement of costs incurred and to be incurred, by the United States in connection with response actions at the Alsco Anaconda Superfund Site (“Site”) in Gnadenhutten, Ohio. ARCO has implemented a remedial action that the United States Environmental Protection Agency selected for the Site and asserted claims pursuant to Section 106(b) of CERCLA to recover certain of its response costs from the Hazardous Substance Superfund.

Under the proposed decree, ARCO will pay $1,135,000 in satisfaction of the United States' claims against it. The proposed decree also provides for dismissal with prejudice of ARCO's claims against the United States for reimbursement of certain costs ARCO incurred in connection with response actions it performed at the Site.

The Department of Justice will receive comments relating to the proposed consent decree for a period of 30 days from the date of this publication. Comments should be addressed to the Assistant Attorney General of the Environment and Natural Resources Division, Department of Justice, Washington, DC 20530. All comments should refer to United States v. The Atlantic Richfield Company, D.J. Ref. 90-11-3-488B.

The proposed consent decree may be examined at the office of the United States Attorney for the Northern District of Ohio, 1800 Bank One Center, 600 Superior Avenue, Cleveland, Ohio 44114-2600; and at the Region V office of the Environmental Protection Agency, 77 West Jackson Boulevard, Chicago, Illinois 60604-3590. A copy of the proposed consent decree may be obtained in person or by mail from the Department of Justice Consent Decree Library, P.O. Box 7611, Washington, DC 20044-7611. In requesting a copy, please enclose a check in the amount of $5.25 (25 cents per page reproduction costs) payable to the Consent Decree Library. When requesting a copy, please refer to United States v. The Atlantic Richfield Company. D.J. Ref. 90-11-3-488B.

William D. Brighton,
Assistant Chief, Environmental Enforcement Section, Environment and Natural Resources Division.

[FR Doc. 01-13028 Filed 5-22-01; 8:45 am]

BILLING CODE 4410-15-M